DEPARTMENT OF DEFENSE

Office of the Secretary

[Docket ID DoD-2021-OS-0063]

Submission for OMB Review; Comment Request

AGENCY: Defense Legal Services Agency, Department of Defense (DoD).

ACTION: Information collection request.

SUMMARY: Consistent with the Paperwork Reduction Act of 1995 and its implementing regulations, this document provides notice DoD is submitting an Information Collection Request to the Office of Management and Budget (OMB) to inform the Department's briefing to the House and Senate Committees on the Armed Services on the implementation and effect of a section of the National Defense Authorization Act (NDAA) for Fiscal Year 2018 (FY18). DoD requests emergency processing and OMB authorization to collect the information after publication of this notice for a period of six months.

DATES: Comments must be received by August 3, 2021.

ADDRESSES: The Department has requested emergency processing from OMB for this information collection request by 15 days after publication of this notice. Interested parties can access the supporting materials and collection instrument as well as submit comments and recommendations to OMB at www.reginfo.gov/public/do/PRAMain. Find this particular information collection by selecting “Currently under 15-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: The conference report accompanying the NDAA for FY21 (H. Rept. 116-617) requested that the Secretary of Defense brief the House and Senate Committees on the Armed Services on the implementation and effect of Section 1045 of the NDAA for FY18. Specifically, the briefing should include an “evaluation of the effects, if any, of the limitations imposed by Section 1045 [of the NDAA for FY18] on the Department's ability both to attract experienced and qualified persons to public service in the DOD and to derive benefit from communications with former senior employees and officers.” In order to inform this portion of the briefing, the Standards of Conduct Office must collect information from former General and Flag Officer and members of the SES that are subject to the post-Government employment restrictions imposed by Section 1045 of the NDAA for FY18.

Title; Associated Form; and OMB Number: Data Call for Former General/Flag Officers and SES; OMB Control Number 0704-NDAA.

Type of Request: New.

Number of Respondents: 500.

Responses per Respondent: 1.

Annual Responses: 500.

Average Burden per Response: 15 minutes.

Annual Burden Hours: 125.

Affected Public: Individuals or households.

Frequency: One-time.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: July 14, 2021.
Aaron T. Siegel,
Alternate OSD Federal Register Liaison Officer, Department of Defense.

[FR Doc. 2021-15282 Filed 7-16-21; 8:45 am]

BILLING CODE 5001-06-P